DEPARTMENT OF DEFENSE

Office of the Secretary

[Docket ID: DOD-2017-OS-0007]

Privacy Act of 1974; System of Records

AGENCY: Office of the Secretary of Defense, DoD.

ACTION: Notice of a Modified System of Records.

SUMMARY: The Office of the Secretary of Defense is modifying a system of records, entitled, “Defense User Registration System (DURS) Records, DTIC 01” to be compliant with the OMB Circular A-108 and make other administrative changes. This system of records registers and certifies users of Defense Technical Information Center (DTIC) products and services. It ensures that Department of Defense scientific and technological information is appropriately managed to enable scientific knowledge and technological innovations to be fully accessible to authorized recipients while applying appropriate safeguards to assure that the information is protected according to national security requirements.

DATES: Comments will be accepted on or before March 23, 2017. This proposed action will be effective the day following the end of the comment period unless comments are received which result in a contrary determination.

ADDRESSES: You may submit comments, identified by docket number and title, by any of the following methods:

* Federal Rulemaking Portal: http://www.regulations.gov. Follow the instructions for submitting comments.

* Mail: Department of Defense, Office of the Deputy Chief Management Officer, Directorate of Oversight and Compliance, 4800 Mark Center Drive, Mailbox #24, Suite 08D09B, Alexandria, VA 22350-1700.

Instructions: All submissions received must include the agency name and docket number for this Federal Register document. The general policy for comments and other submissions from members of the public is to make these submissions available for public viewing on the Internet at http://www.regulations.gov as they are received without change, including any personal identifiers or contact information.

FOR FURTHER INFORMATION CONTACT: Mrs. Luz D. Ortiz, Chief, Records, Privacy and Declassification Division (RPDD), 1155 Defense Pentagon, Washington, DC 20301-1155, or by phone at (571) 372-0478.

SUPPLEMENTARY INFORMATION: In addition to the formatting changes required by OMB Circular A-108, this modification reflects a change to the system location, categories of individuals, categories of records, authorities for maintenance of the system, purpose, routine uses, retrievability, safeguards, system manager and address, notification procedure, record access procedures, contesting record procedures, and record source categories.

The Office of the Secretary of Defense notices for systems of records subject to the Privacy Act of 1974 (5 U.S.C. 552a), as amended, have been published in the Federal Register and are available from the address in FOR FURTHER INFORMATION CONTACT or at the Defense Privacy, Civil Liberties and Transparency Division Web site at http://defense.gov/privacy.

The proposed system report, as required by 5 U.S.C. 552a(r) of the Privacy Act of 1974, as amended, was submitted on December 8, 2016, to the House Committee on Oversight and Government Reform, the Senate Committee on Governmental Affairs, and the Office of Management and Budget (OMB) pursuant to OMB Circular No. A-108, “Federal Agency Responsibilities for Review, Reporting, and Publication Under the Privacy Act,” revised December 23, 2016 (December 23, 2016 81 FR 94424).

Dated: February 15, 2017.
Aaron Siegel,
Alternate OSD Federal Register Liaison Officer, Department of Defense.

SYSTEM NAME AND NUMBER:

Defense User Registration System (DURS) Records, DTIC 01

SYSTEM CLASSIFICATION:

Unclassified

SYSTEM LOCATION:

Defense Technical Information Center (DTIC), Directorate of User Services, Communications and Customer Access Division, Attn: DTIC-UC, 8725 John J. Kingman Road, Fort Belvoir, VA 22060-6218.

SYSTEM MANAGER(S):

Chief, Customer Access and Communications Division, DTIC-UC, 8725 John J. Kingman Road, Fort Belvoir, VA 22060-6218.

AUTHORITY FOR MAINTENANCE OF THE SYSTEM:

E.O. 13526, Classified National Security Information; DoD Directive (DoDD) 5105.73 Defense Technical Information Center (DTIC); DoD Instruction (DoDI) 3200.12 DoD Scientific and Technical Information Program (STIP); and DoD Manual (DoDM) 3200.14, Volume 1, Principles and Operational Parameters of the DoD Scientific and Technical Information Program (STIP): General Processes.

PURPOSE(S) OF THE SYSTEM:

To collect registration requests, validate eligibility, and maintain an official registry that identifies individuals who apply for, and are granted access privileges to DTIC owned or controlled computers, databases, products, services, and electronic information systems.

CATEGORIES OF INDIVIDUALS COVERED BY THE SYSTEM:

Department of Defense (DoD) military and civilian personnel and other U.S. Federal Government personnel, their contractors and grantees, and other government officials according to agreements with DoD who request access privileges to DTIC products, services, and electronic information systems.

CATEGORIES OF RECORDS IN THE SYSTEM:

Name; DoD Identification (ID) Number; citizenship; service type; personnel category; civilian pay grade; military rank; organization/company name; office mailing address/physical location; office email address; userid and password/reset questions; office telephone number(s); access eligibility; dissemination/distribution group codes; and personal and facility security clearance level(s).

Records also contain the government approving official's name, office phone number and email address; date of registration activation; and the projected date of expiration. Where applicable, the records contain contract number(s), contract expiration date(s), and the Militarily Critical Technical Data Agreement (MCTDA) Certification Number.

RECORD SOURCE CATEGORIES:

Individuals, security personnel, the Defense Manpower Data Center Department of Defense Person Search (DMDC DPS), and the electronic Official Personnel Folder (eOPF).

ROUTINE USES OF RECORDS MAINTAINED IN THE SYSTEM, INCLUDING CATEGORIES OF USERS AND THE PURPOSES OF SUCH USES:

In addition to those disclosures generally permitted under 5 U.S.C. 552a(b) of the Privacy Act of 1974, as amended, the records contained herein may specifically be disclosed outside the DoD as a routine use pursuant to 552a(b)(3) as follows:

1. Law Enforcement Routine Use: If a system of records maintained by a DoD Component to carry out its functions indicates a violation or potential violation of law, whether civil, criminal, or regulatory in nature, and whether arising by general statute or by regulation, rule, or order issued pursuant thereto, the relevant records in the system of records may be referred, as a routine use, to the agency concerned, whether federal, state, local, or foreign, charged with the responsibility of investigating or prosecuting such violation or charged with enforcing or implementing the statute, rule, regulation, or order issued pursuant thereto.

2. Congressional Inquiries Disclosure Routine Use: Disclosure from a system of records maintained by a DoD Component may be made to a congressional office from the record of an individual in response to an inquiry from the congressional office made at the request of that individual.

3. Disclosure to the Department of Justice for Litigation Routine Use: A record from a system of records maintained by a DoD Component may be disclosed as a routine use to any component of the Department of Justice for the purpose of representing the Department of Defense, or any officer, employee or member of the Department in pending or potential litigation to which the record is pertinent.

4. Disclosure of Information to the National Archives and Records Administration Routine Use: A record from a system of records maintained by a DoD Component may be disclosed as a routine use to the National Archives and Records Administration for the purpose of records management inspections conducted under authority of 44 U.S.C. 2904 and 2906.

5. Data Breach Remediation Purposes Routine Use: A record from a system of records maintained by a Component may be disclosed to appropriate agencies, entities, and persons when (1) The Component suspects or has confirmed that the security or confidentiality of the information in the system of records has been compromised; (2) the Component has determined that as a result of the suspected or confirmed compromise there is a risk of harm to economic or property interests, identity theft or fraud, or harm to the security or integrity of this system or other systems or programs (whether maintained by the Component or another agency or entity) that rely upon the compromised information; and (3) the disclosure made to such agencies, entities, and persons is reasonably necessary to assist in connection with the Components efforts to respond to the suspected or confirmed compromise and prevent, minimize, or remedy such harm.

POLICIES AND PRACTICES FOR STORAGE OF RECORDS:

Electronic storage media.

POLICIES AND PRACTICES FOR RETRIEVAL OF RECORDS:

Individual name; DoD ID number; office email address.

POLICIES AND PRACTICES FOR RETENTION AND DISPOSAL OF RECORDS:

Electronic records are to be deleted when DTIC determines they are no longer needed for administrative, audit, legal, or operational purposes.

ADMINISTRATIVE, TECHNICAL, AND PHYSICAL SAFEGUARDS:

Records are maintained in secure, limited access, and monitored areas. Database is monitored, access is password protected, and common access card (CAC) enabled. Firewalls and intrusion detection system are used. Physical entry by unauthorized persons is restricted through the use of locks, guards, passwords, and/or other security measures. Archived data is stored on compact discs, or magnetic tapes, which are kept in a locked, controlled access area. Access to personal information is limited to those individuals who require a need to know to perform their official assigned duties.

RECORD ACCESS PROCEDURES:

Individuals seeking access to information about themselves contained in this system of records should address written requests to the Office of the Secretary of Defense/Joint Staff Freedom of Information Act Requester Service Center, 1155 Defense Pentagon, Washington, DC 20701-1155.

Signed, written requests should include the individual's full name, telephone number, street address, email address, and name and number of this system of records notice. In addition, the requester must provide a notarized statement or an unsworn declaration made in accordance with 28 U.S.C. 1746, in the following format:

If executed outside the United States: “I declare (or certify, verify, or state) under penalty of perjury under the laws of the United States of America that the foregoing is true and correct. Executed on (date). (Signature).”

If executed within the United States, its territories, possessions, or commonwealths: “I declare (or certify, verify, or state) under penalty of perjury that the foregoing is true and correct. Executed on (date). (Signature).”

CONTESTING RECORD PROCEDURES:

The Office of the Secretary of Defense (OSD) rules for accessing records, contesting contents, and appealing initial agency determinations are contained in OSD Administrative Instruction 81; 32 CFR part 311; or may be obtained from the system manager.

NOTIFICATION PROCEDURES:

Individuals seeking to determine if information about themselves is contained in this system should address written inquiries to Defense Technical Information Center; Attn: DTIC-UC, 8725 John J. Kingman Road, Fort Belvoir, VA 22060-6218.

Signed, written requests should contain the individual's full name, telephone number, street address, email address, and name and number of this system of records notice. In addition, the requester must provide a notarized statement or an unsworn declaration made in accordance with 28 U.S.C. 1746, in the following format:

If executed outside the United States: “I declare (or certify, verify, or state) under penalty of perjury under the laws of the United States of America that the foregoing is true and correct. Executed on (date). (Signature).”

If executed within the United States, its territories, possessions, or commonwealths: “I declare (or certify, verify, or state) under penalty of perjury that the foregoing is true and correct. Executed on (date). (Signature).”

EXEMPTIONS PROMULGATED FOR THE SYSTEM:

None.

HISTORY:

October 4, 2010, 75 FR 61135; November 12, 2008, 73 FR 66852; April 25, 2005, 70 FR 21181.

[FR Doc. 2017-03355 Filed 2-17-17; 8:45 am]

BILLING CODE 5001-06-P